DEPARTMENT OF HEALTH AND HUMAN SERVICES

National Institutes of Health

Clinical Center; Notice of Meeting

Pursuant to section 10(d) of the Federal Advisory Committee Act, as amended (5 U.S.C. Appendix 2), notice is hereby given of a meeting of the NIH Advisory Board for Clinical Research.

The meeting will be open to the public as indicated below, with attendance limited to space available. Individuals who plan to attend and need special assistance, such as sign language interpretation or other reasonable accommodations, should notify the Contact Person listed below in advance of the meeting.

The meeting will be closed to the public in accordance with the provisions set froth in section 552b(c)(6), Title 5 U.S.C., as amended for discussion of personal qualifications and performance, the disclosure of which would constitute a clearly unwarranted invasion of personal privacy.

Name of Committee: NIH Advisory Board for Clinical Research.

Date: January 30, 2006.

Open: 10 a.m. to 1:30 p.m.

To review the Clinical Center operating plan, ABCR workgroups and Budgetary issues.

National Institutes of Health, Building 10, 10 Center Drive, 4-2551, CRC Medical Board Room, Bethesda, MD 20892.

Closed: 1:30 p.m. to 2 p.m.

Agenda: To review and evaluate for discussion of personal qualifications and performance the disclosure of which constitute a clearly unwarranted invasion of privacy.

Place: National Institutes of Health, Building 10, 10 Center Drive, 4-2551, CRC Medical Board Room, Bethesda, MD 20892.

Contact Person: Maureen E. Gormley, Executive Secretary, Mark O. Hatfield Clinical Research Center, National Institutes of Health, Building 10, Room 6-15610, Bethesda MD 20892, 301/496-2897.

Any interested person may file written comments with the committee by forwarding the statement to the Contact Person listed on this notice. The statement should include the name, address, telephone number and when applicable, the business or professional affiliation of the interested person.

Dated: December 7, 2005.
Anna Snouffer,
Acting Director, Office of Federal Advisory Committee Policy.

[FR Doc. 05-24015 Filed 12-13-05; 8:45am]

BILLING CODE 4140-01-M